DEPARTMENT OF HEALTH AND HUMAN SERVICES

Centers for Medicare & Medicaid Services

[Document Identifier CMS-10433]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Title of Information Collection: Initial Plan Data Collection to Support Qualified Health Plan (QHP) Certification and Other Financial Management and Exchange Operations; Type of Information Collection Request: New information collection; Use: As required by the CMS-9989-F (77 CFR 18310, March 27, 2012): Establishment of Exchanges and Qualified Health Plans; Exchange Standards for Employers (Exchange rule), each Exchange must assume responsibilities related to the certification and offering of Qualified Health Plans (QHPs). To offer insurance through an Exchange, a health insurance issuer must have its health plans certified as QHPs by the Exchange. A QHP must meet certain minimum certification standards, such as essential community providers, essential health benefits, and actuarial value. In order to meet those standards, the Exchange is responsible for collecting data and validating that QHPs meet these minimum requirements as described in the Exchange rule under 45 CFR 155 and 156, based on the Affordable Care Act, as well as other requirements determined by the Exchange. In addition to data collection for the certification of QHPs, the reinsurance and risk adjustment programs outlined by the Affordable Care Act, detailed in 45 CFR 153, CMS-9975-F(77 FR 17220, March 23, 2012): Standards for Reinsurance, Risk Corridors, and Risk Adjustment, have general information reporting requirements that apply to non-QHPs outside of the Exchanges.

The original 60-day comment period began on July 6, 2012 (77 FR 40061). We received a number of public comments which addressed multiple issues. Some of the commenters were concerned with duplicate data collection. CMS is working with States to minimize any required document submission to streamline and reduce duplication, especially in future years. CMS has oversight and enforcement responsibilities unique to Exchanges that may require more than verification from a state. CMS has also aligned the data collection for SBCs, healthcare.gov, and EHB. Other commenters asked for more clarification on the data elements we are collection. We have included those data elements in this data collection. Furthermore, CMS will provide greater clarification on its process associated with QHP certification, essential community providers, and network adequacy among other QHP certification requirements. We have taken into consideration all of the proposed suggestions and have made changes to this collection of information. In addition, CMS is increasing the estimated burden by 21 hours.

Form Number: CMS-10433; Frequency: Annually; Affected Public: States and Private Sector: Business or other for-profits and not-for-profit institutions; Number of Respondents: 3490; Number of Responses: 3490; Total Annual Hours: 242,190 hours in year one and 184,110 hours in years two and three. (For policy questions regarding the QHP Certification data collection, contact Gina Zdanowicz at (301) 492-4451. For policy questions regarding risk adjustment and reinsurance data collection, contact Milan Shah at (301) 492-4427. For all other issues, call (410) 786-1326.)

To obtain copies of the supporting statement and any related forms for the proposed paperwork collections referenced above, access CMS Web Site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on December 21, 2012. OMB, Office of Information and Regulatory Affairs, Attention: CMS Desk Officer, Fax Number: (202) 395-6974, Email: OIRA_submission@omb.eop.gov.

Dated: November 16, 2012.
Martique Jones,
Director, Regulations Development Group, Division B, Office of Strategic Operations and Regulatory Affairs.

[FR Doc. 2012-28379 Filed 11-20-12; 8:45 am]

BILLING CODE 4120-01-P